DEPARTMENT OF THE INTERIOR

Fish and Wildlife Service

[FWS-R1-ES-2018-N076; FXES11140100000-189-FF01E00000]

Habitat Conservation Plan for the Yelm Subspecies of the Mazama Pocket Gopher, Thurston County, Washington

AGENCY: Fish and Wildlife Service, Interior.

ACTION: Notice of availability; request for comments.

SUMMARY: We, the U.S. Fish and Wildlife Service (Service), received an application from Mr. Todd Tveten for an incidental take permit (ITP) pursuant to the Endangered Species Act of 1973, as amended (ESA). The ITP would authorize “take” of the Yelm pocket gopher, incidental to otherwise lawful activities during construction of a single-family home and agricultural shop in Thurston County, Washington. The application includes a habitat conservation plan (HCP) with measures to minimize and mitigate the impacts of the taking on the covered species. We have also prepared a draft environmental action statement (EAS) for our preliminary determination that the HCP and permit decision may be eligible for categorical exclusion under the National Environmental Policy Act. We provide this notice to open a public comment period and invite comments from all interested parties regarding the documents.

DATES: To ensure consideration, please submit written comments by September 17, 2018.

ADDRESSES: To request further information or submit written comments, please use one of the following methods:

• Internet: You may view or download copies of the HCP and obtain additional information on the internet at http://www.fws.gov/wafwo/.

• Email: wfwocomments@fws.gov. Include “Tveten HCP” in the subject line of the message.

• U.S. Mail: Public Comments Processing, Attn: FWS-R1-ES-2018-N076; U.S. Fish and Wildlife Service; Washington Fish and Wildlife Office; 510 Desmond Drive SE, Suite 102; Lacey, WA 98503.

• In-Person Drop-off, Viewing, or Pickup: Call 360-753-5823 to make an appointment (necessary for viewing or picking up documents only) during regular business hours at the above address.

FOR FURTHER INFORMATION CONTACT: Tim Romanski, Conservation Planning and Hydropower Branch Manager, Washington Fish and Wildlife Office, U.S. Fish and Wildlife Service (see ADDRESSES), telephone: 360-753-5823. If you use a telecommunications device for the deaf, please call the Federal Relay Service at 800-877-8339.

SUPPLEMENTARY INFORMATION: The Service received an application for an ITP pursuant to Section 10(a)(1)(B) of the ESA. The applicant requests a 3-year permit term that would authorize “take” of the threatened Yelm pocket gopher (Thomomys mazama yelmensis), hereafter referred to as Yelm pocket gopher, incidental to construction of one single-family home on land the applicant owns in Thurston County, Washington. The application includes a HCP that describes actions the applicant will take to minimize and mitigate the impacts of the taking on the covered species.

Background

Section 9 of the Endangered Species Act (ESA; 16 U.S.C. 1531) prohibits “take” of fish and wildlife species listed as endangered or threatened. Under the ESA, the term “take” means to harass, harm, pursue, hunt, shoot, wound, kill, trap, capture, or collect, or to attempt to engage in any such conduct (16 U.S.C. 1532(19)). The term “harm,” as defined in our regulations, includes significant habitat modification or degradation that results in death or injury to listed species by significantly impairing essential behavioral patterns, including breeding, feeding, or sheltering (50 CFR 17.3). The term “harass” is defined in our regulations as to intentional or negligent actions that create the likelihood of injury to listed species to such an extent as to significantly disrupt normal behavioral patterns, which include, but are not limited to, breeding, feeding, or sheltering (50 CFR 17.3).

Section 10(a)(1)(B) of the ESA contains provisions that authorize the Service to issue permits to non-Federal entities for the take of endangered and threatened species caused by otherwise lawful activities, provided the following criteria are met: (1) The taking will be incidental; (2) the applicant will, to the maximum extent practicable, minimize and mitigate the impact of such taking; (3) the applicant will ensure that adequate funding for the plan will be provided; (4) the taking will not appreciably reduce the likelihood of the survival and recovery of the species in the wild; and (5) the applicant will carry out any other measures that the Service may require as being necessary or appropriate for the purposes of the plan. Regulations governing permits for endangered and threatened species are found in 50 CFR 17.22 and 17.32, respectively.

Proposed Action

The Service proposes to issue the requested 3-year ITP based on the applicant's commitment to implement the HCP, if permit issuance criteria are met. Covered activities include construction of a single-family home and an agricultural building. The area covered under the HCP consists of an approximately one-half acre project development site and an approximately one acre conservation site on land owned by the applicant. Take of the Yelm pocket gopher would occur within the half-acre development site and will be offset by granting Thurston County a perpetual conservation easement over an acre of occupied habitat, for the purpose of ensuring that it is perpetually managed for the benefit of the covered species. Funding for management of the conservation easement would be assured. The applicant may have the conservation easement released in the future if it purchases credits from a Service-approved conservation bank for the Yelm pocket gopher, which would provide equivalent or greater conservation benefits to the species. At present, no such conservation bank exists.

Public Comments

You may submit your comments and materials by one of the methods listed in ADDRESSES. We specifically request information, views, and suggestions from interested parties regarding our proposed Federal action, including adequacy of the HCP pursuant to the requirements for permits at 50 CFR parts 13 and 17 and adequacy of the EAS pursuant to NEPA.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety. Comments and materials we receive will be available for public inspection by appointment, during normal business hours, at our Washington Fish and Wildlife Office (see ADDRESSES).

Authority

We provide this notice in accordance with the requirements of section 10 of the ESA and NEPA and their implementing regulations (50 CFR 17.32 and 40 CFR 1506.6, respectively).

Theresa E. Rabot,
Deputy Regional Director, Pacific Region, U.S. Fish and Wildlife Service.

[FR Doc. 2018-17668 Filed 8-15-18; 8:45 am]

BILLING CODE 4333-15-P